OFFICE OF PERSONNEL MANAGEMENT

Submission for OMB Review: Comment Request for Review of a Revised Information Collection: Standard Form 1153

AGENCY: U.S. Office of Personnel Management.

ACTION: Notice.

SUMMARY: In accordance with the Paperwork Reduction Act of 1995 (Pub. L. 104-13, May 22, 1995), this notice announces that the U.S. Office of Personnel Management (OPM) submitted to the Office of Management and Budget (OMB) a request for review of a revised information collection. Standard Form 1153, Claim for Unpaid Compensation of Deceased Civilian Employee, is used to collect information from individuals who have been designated as beneficiaries of the unpaid compensation of a deceased Federal civilian employee or who believe that their relationship to the deceased entitles them to receive the unpaid compensation of a deceased Federal civilian employee. OPM needs this information in order to adjudicate the claim and properly assign a deceased Federal civilian employee's unpaid compensation to the appropriate individuals(s).

We received no comments on our 60-day notice on Standard Form 1153, published in the Federal Register on November 26, 2004.

Approximately 3,000 SF 1153 forms are submitted annually. It takes approximately 15 minutes to complete the form. The annual estimated burden is 750 hours.

For copies of this proposal, contact Mary Beth Smith-Toomey on (202) 606-8358, FAX (202) 418-3251, or e-mail to mbtoomey@opm.gov. Please include a mailing address with your request.

DATES: Comments on this proposal should be received within 30 calendar days from the date of this publication.

ADDRESSES: Send or deliver comments to—Robert D. Hendler, Program Manager, Center for Merit Systems Compliance, Division for Human Capital Leadership and Merit System Compliance Group, U.S. Office of Personnel Management, 1900 E Street, NW., Room 6484, Washington, DC 20415; and Brenda Aguilar, OPM Desk Officer, Office of Information and Regulatory Affairs, Office of Management and Budget, New Executive Office Building, NW., Room 10235, Washington, DC 20503.

U.S. Office of Personnel Management.
Dan G. Blair,
Acting Director.

[FR Doc. 05-8460 Filed 4-27-05; 8:45 am]

BILLING CODE 6325-43-P